DEPARTMENT OF COMMERCE

National Oceanic and Atmospheric Administration

RIN 0648-XC284

Endangered and Threatened Species; Initiation of 5-Year Review for the Southern Distinct Population Segment of North American Green Sturgeon

AGENCY: National Marine Fisheries Service (NMFS), National Oceanic and Atmospheric Administration (NOAA), Commerce.

ACTION: Notice of initiation of 5-year review; request for information.

SUMMARY: NMFS announces a 5-year review of the Southern Distinct Population Segment (DPS) of North American green sturgeon (Acipenser medirostris) (hereafter, Southern DPS) under the Endangered Species Act of 1973, as amended (ESA). On April 7, 2006, NMFS issued a final listing determination for the Southern DPS as threatened under the ESA. The purpose of the 5-year review is to ensure the accuracy of the listing classification for this species. A 5-year review is based on the best scientific and commercial data available; therefore, we are requesting submission of any such information on the Southern DPS that has become available since the listing determination in 2006. We are also requesting information regarding the status of the Northern DPS of the North American green sturgeon (hereafter, Northern DPS), which is a NMFS Species of Concern.

DATES: To allow adequate time to conduct this review, we must receive your information no later than December 24, 2012.

ADDRESSES: You may submit comments on this document, identified by NOAA-NMFS-2012-0198, by any of the following methods:

• Electronic Submissions: Submit all electronic public comments via the Federal e-Rulemaking Portal www.regulations.gov. To submit comments via the e-Rulemaking Portal, first click the “submit a comment” icon, then enter NOAA-NMFS-2012-0198 in the keyword search. Locate the document you wish to comment on from the resulting list and click on the “Submit a Comment” icon on the right of that line.

• Mail or hand-delivery: Chris Yates, ATTN: Green Sturgeon Status Review, National Marine Fisheries Service, Southwest Region, Protected Resources Division, 501 West Ocean Blvd., Suite 4200, Long Beach, CA, 90802-4213.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive information that you wish to protect from disclosure. NMFS will accept anonymous comments (enter “N/A” in the required fields if you wish to remain anonymous). Attachments to electronic comments will be accepted in Microsoft Word or Excel, WordPerfect, or Adobe PDF file formats only.

FOR FURTHER INFORMATION CONTACT: Melissa Neuman, NMFS Southwest Region, Protected Resources Division, 562-980-4115.

SUPPLEMENTARY INFORMATION: Section 4(c)(2)(A) of the ESA requires that we conduct a review of listed species at least once every five years. The regulations in 50 CFR 424.21 require that we publish a notice in the Federal Register announcing those species currently under active review. This notice announces our active review of the Southern DPS of green sturgeon currently listed as threatened.

Public Solicitation of New Information

To ensure that the 5-year review is complete and based on the best available scientific and commercial information, we are soliciting new information from the public, governmental agencies, Tribes, the scientific community, industry, environmental entities, and any other interested parties concerning the status of the Southern DPS since the listing determination in 2006. The 5-year review considers the best scientific and commercial data and all new information that has become available since the listing determination or most recent status review. Categories of requested information include: (1) Species biology including, but not limited to, population trends, distribution, abundance, demographics, and genetics; (2) habitat conditions including, but not limited to, amount, distribution, and suitability; (3) conservation measures that have been implemented that benefit the species; (4) status and trends of threats; (5) other new information, data, or improved analytical methods; and (6) corrections including, but not limited to, taxonomic or nomenclatural changes. The Southern DPS consists of populations originating from coastal and Central Valley watersheds south of the Eel River in California, with the only known spawning population in the Sacramento River. NMFS also seeks new information available on the Northern DPS, consisting of populations originating from coastal watersheds north of and including the Eel River. The Northern DPS is listed as a NMFS Species of Concern. At the time of the Southern DPS proposed listing, NMFS volunteered to revisit and update, if necessary, the Northern DPS' status in five years time (70 FR 17386; April 6, 2005). Therefore, any information submitted regarding the Northern DPS will not be used as part of a formal 5-year status review, but rather an informal assessment of the DPS' status to verify whether its current position on the Species of Concern List is still appropriate.

Any new information will be considered during the 5-year review and will also be useful in evaluating ongoing research and conservation activities and may be incorporated into the final recovery plan for the Southern DPS.

Authority: 16 U.S.C. 1531 et seq.

Dated: October 18, 2012.
Angela Somma,
Chief, Endangered Species Division, Office of Protected Resources, National Marine Fisheries Service.

[FR Doc. 2012-26237 Filed 10-23-12; 8:45 am]

BILLING CODE 3510-22-P